ENVIRONMENTAL PROTECTION AGENCY

[FRL-7032-7]

Summary of the Workshop on Information Needs to Address Children's Cancer Risk

AGENCY: Environmental Protection Agency (EPA).

ACTION: Notice of availability of a final report.

SUMMARY: The Environmental Protection Agency's (EPA) National Center for Environmental Assessment (NCEA) in the Office of Research and Development announces the availability of a final report, Summary of the Workshop on Information Needs to Address Children's Cancer Risk (EPA/600/R-00/105, December 2000). This report summarizes a workshop cosponsored by the U.S. Environmental Protection Agency (EPA) and the National Institute of Environmental Health Sciences (NIEHS) on March 30 and 31, 2000. Eastern Research Group, an EPA contractor, organized and convened the workshop on EPA's and NIEHS's behalf. The workshop focused on a discussion of children's cancer risk assessment and related data needs to address issues that were raised during public review of EPA's 1999 Draft Revised Guidelines for Carcinogen Risk Assessment.

ADDRESSES: The document will be made available electronically through the National Center for Environmental Assessment's web site (www.epa.gov/ncea). A limited number of paper copies will be available from the EPA's National Service Center for Environmental Publications (NSCEP), P.O. Box 42419, Cincinnati, OH 45242; telephone: 1-800-490-9198 or 513-489-8190; facsimile: 513-489-8695. Please provide your name and mailing address and the title and EPA number of the requested publication.

FOR FURTHER INFORMATION CONTACT: The Technical Information Staff, National Center for Environmental Assessment (8623D), U.S. Environmental Protection Agency, 1200 Pennsylvania Avenue, NW., Washington DC 20460; telephone: 202-564-3261; facsimile: 202-565-0050; email: nceadc.comment@epa.gov.

SUPPLEMENTARY INFORMATION: The workshop focused on a discussion of children's cancer risk assessment and related data needs to address issues that were raised during public review of EPA's 1999 Draft Revised Guidelines for Carcinogen Risk Assessment. The issues include: characterizing the ideal data set to adequately address children's cancer risk and proposed approaches to using available data in the absence of the ideal data set.

The background for discussions at the workshop is the reality that chemical-specific data are often lacking to specifically address children's cancer risk from environmental chemical exposures. Consequently, the assessment of children's risk is currently addressed by evaluations of traditional bioassays in mature animals, comparative biochemistry and physiology between adult and developing animals and humans, and public-health-protective default positions in the absence of child-specific data. The workshop focused on four topic areas: (1) Current and proposed approaches to assessing children's cancer risk, (2) enhanced use of test data related to children's cancer risk, (3) future directions for toxicology testing to address children's cancer risk, and (4) epidemiological/molecular epidemiology information to address children's cancer risk.

Dated: July 20, 2001.
Art Payne,
Acting Director, National Center for Environmental Assessment.

[FR Doc. 01-20659 Filed 8-15-01; 8:45 am]

BILLING CODE 6560-50-P